FEDERAL COMMUNICATIONS COMMISSION

[OMB 3060-0812; FR ID 185280]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

DATES: Written PRA comments should be submitted on or before January 19, 2024. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION: The FCC may not conduct or sponsor a collection of information unless it displays a currently valid control number. No person shall be subject to any penalty for failing to comply with a collection of information subject to the PRA that does not display a valid Office of Management and Budget (OMB) control number.

OMB Control Number: 3060-0812.

Title: Fee Assessment Adjustment, Fee Relief and Fee Exemption.

Form Number: N/A.

Type of Review: Revision of a currently approved collection.

Respondents: Individuals or households, businesses and other for-profit entities, not-for-profit entities, Federal Government and State, local and Tribal government.

Number of Respondents and Responses: 574 respondents; 574 responses.

Estimated Time per Response: 0.25-1.25 hours.

Frequency of Response: On occasion reporting requirements.

Obligation to Respond: Required to obtain or retain benefits. The statutory authority for these fee collections is contained in 47 U.S.C. 154(i), 154(j), 158, 159, 159a and 303.

Total Annual Burden: 244 hours.

Total Annual Cost: No cost.

Needs and Uses: The Commission requires that nonprofit entities seeking a statutory exemption from payment of application or regulatory fees submit documentation, such as an IRS Determination Letter, a state charter indicating nonprofit status, proof of church affiliation indicating tax exempt status or the like, to establish nonprofit status, and if later requested by the Commission, to provide current evidence of exempt status. The Commission allows commercial mobile radio service (CMRS) and broadcast (television and radio) licensees and interstate telecommunications service providers (ITSPs) to submit, prior to the annual regulatory fee payment deadline, updates or corrections to the data the Commission relies upon to assess their annual regulatory fees, to request that their annual regulatory fees be adjusted accordingly. The Commission is permitted by statute to waive, reduce or defer payment of regulatory or application fees upon a showing of good cause and that the relief sought would promote the public interest. Parties seeking waiver, reduction or deferral of their fees submit documentation, such as financial records demonstrating financial hardship, to demonstrate good cause and that the relief sought promotes the public interest.

Federal Communications Commission.
Marlene Dortch,
Secretary, Office of the Secretary.

[FR Doc. 2023-25516 Filed 11-17-23; 8:45 am]

BILLING CODE 6712-01-P